FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR Part 515).

Persons knowing of any reason why the following applicants should not receive a license are requested to contact the Office of Transportation Intermediaries, Federal Maritime Commission, Washington, DC 20573.

Non-Vessel Operating Common Carrier Ocean Transportation Intermediary Applicants

Trinbago Express Shipping Services Inc., 9909 Foster Avenue, Brooklyn, NY 11236. Officers: Keith Miller, President (Qualifying Individual), Pamela Lindsay, Vice President.

Elite International Logistics, Inc., 1535 W. Walnut Parkway, Compton, CA 90220. Officers: Ouk Jin, Lee, President (Qualifying Individual), Won Rok, Choi, CFO.

CMS Logistics, Inc., 13266 Acoro Place, Cerritos, CA 90703. Officers: Jae Woo Chang, President (Qualifying Individual), Myung Shin Chang, Secretary.

Braid America Inc., 15700 Export Plaza Drive, Suite S, Houston, TX 77032. Officer: Terrance J. Hatton, Vice President (Qualifying Individual).

Beyond Shipping, Inc., 2000 Silver Hawk Drive, #2, Diamond Bar, CA 91765. Officer: Yilin Yang, President (Qualifying Individual).

American Logistics Network, LLC, 85 Chestnut Ridge Road, Montvale, NJ 07645. Officers: Douglas W. Tipton, Vice President (Qualifying Individual), Raymond P. Ebeling, President.

AFE International Group Inc., 430 W. Merrick Road, Suite #P, Valley Stream, NY 11580. Officers: Yi-Chun Wu, Vice President (Qualifying Individual), Hung-Cheung Leung, President.

J.C.C. Trans Inc., 144-29 156th Street, Jamaica, NY 11434. Officer: Sung Soo Hong, President (Qualifying Individual).

Jason Express Inc., 423 Hindry Avenue, #A1, Inglewood, CA 90301. Officers: Jason Liu, President (Qualifying Individual), Jeff Nguyen, Operations Manager.

Non-Vessel Operating Common Carrier and Ocean Freight Forwarder Transportation Intermediary Applicants:

Flash Forwarding, Inc., 169 Spencer Avenue, Lynbrook, NY 11563. Officers: Lucille Ercole, Vice President (Qualifying Individual), JoAnn Veiss, President.

PR Logistics Corp., Vista Del Morro Industrial Park, Grainger Building Lot Num. 2, Catano P.R. 00962. Officer: Ariel Rodriguez, President (Qualifying Individual).

Krown Logistics, LLC dba Krown Marine dba A.M. Forwarder, 7202 NW 84 Avenue, Miami, FL 33166. Officers: Fernando S. Cassingena, Gen. Managing Member (Qualifying Individual), Kevin Smorenburg, Sales Gen. Managing Member.

Cargo Agents, Inc. dba CAI Lines dba Cargo Agents Services, 245-06 Jericho Turnpike, Suite 105 LL, Floral Park, NY 11001. Officers: Jose Donado, Vice President (Qualifying Individual), Bonnie Sheehan, President.

Ocean Freight Forwarder—Ocean Transportation Intermediary Applicants:

Champion Cargo Services, LLC, 9523 Jamacha Blvd., Spring Valley, CA 91977. Officers: Leonardo T. Padilla, Gen. Manager (Qualifying Individual), Jocelyn T. Padilla, Member.

Express Solutions International, Inc. dba ESI Global Logistics, 3916 Vero Rd., Suite M, Baltimore, MD 21227. Officers: Kathleen Olsen, Vice President (Qualifying Individual), Christopher Taylor, CEO.

Hual North America, Inc., 500 North Broadway, Suite 233, Jericho, NY 11753. Officers: Roy Winograd, Vice President (Qualifying Individual), James Butcher, President.

Dated: January 8, 2004.
Bryant L. VanBrakle,
Secretary.

[FR Doc. 04-816 Filed 1-13-04; 8:45 am]

BILLING CODE 6730-01-P